DEPARTMENT OF LABOR

Employment and Training Administration

[TA-W-62,889]

Robert Bosch Tool Corporation, Lincolnton, NC; Notice of Termination of Investigation

Pursuant to Section 221 of the Trade Act of 1974, as amended, an investigation was initiated on February 25, 2008, in response to a worker petition filed by a company official on behalf of workers at Robert Bosch Tool Corporation, Lincolnton, North Carolina.

The petitioner has requested that the petition be withdrawn. Consequently, the investigation has been terminated.

Signed at Washington, DC, this 13th day of March 2008.
Elliott S. Kushner,
Certifying Officer, Division of Trade Adjustment Assistance.

[FR Doc. E8-5725 Filed 3-20-08; 8:45 am]

BILLING CODE 4510-FN-P